DEPARTMENT OF TRANSPORTATION

Maritime Administration

46 CFR Part 221

[Docket No. MARAD-2003-15171]

RIN 2133-AB51

Vessel Documentation: Lease Financing for Vessels Engaged in the Coastwise Trade; Second Rulemaking

AGENCY: Maritime Administration, DOT.

ACTION: Joint notice of proposed rulemaking; reopening of comment period.

SUMMARY: The Maritime Administration (MARAD) is reopening the comment period only on MARAD's portion of the joint notice of proposed rulemaking (NPRM) published in the Federal Register on February 4, 2004 (69 FR 5403). MARAD's portion includes its proposed amendments to 46 CFR part 221 and its discussion in the preamble to the joint NPRM. The initial comment period closed on May 4, 2004. The comment period is reopened from May 5, 2004, until June 7, 2004.

DATES: Comments on 46 CFR part 221 must reach MARAD on or before June 7, 2004.

ADDRESSES: You may submit comments identified by MARAD Docket No. MARAD-2003-15171 to the Docket Management Facility at the U.S. Department of Transportation. To avoid duplication, please use only one of the following methods:

(1) Web site: http://dms.dot.gov.

(2) Mail: Docket Management Facility (MARAD Docket No. MARAD-2003-15171), U.S. Department of Transportation, room PL-401, 400 Seventh Street, SW., Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

(5) Federal eRulemaking Portal: http://www.regulations.gov.

FOR FURTHER INFORMATION CONTACT: If you have questions on the Maritime Administration's proposed rule, call John T. Marquez, Jr., Maritime Administration, telephone 202-366-5320. If you have questions on viewing or submitting material to the docket, call Andrea M. Jenkins, Program Manager, Docket Operations, telephone 202-366-0271.

(Authority: 49 CFR 1.66.)

Dated: May 19, 2004.
By Order of the Maritime Administrator.
Joel C. Richard,
Secretary, Maritime Administration.

[FR Doc. 04-11656 Filed 5-21-04; 8:45 am]

BILLING CODE 4910-81-P